DEPARTMENT OF TRANSPORTATION

Federal Aviation Administration

Approval of Teterboro Airport (TEB) Noise Compatibility Program; Correction

AGENCY: Federal Aviation Administration, DOT.

ACTION: Notice of approval of the Teterboro Airport (TEB) noise compatibility program; correction.

SUMMARY: The Federal Aviation Administration published a document in the Federal Register of January 17, 2023, notifying the public of the approval of the noise compatibility program at Teterboro Airport (TEB). The document contained references to an incorrect airport.

FOR FURTHER INFORMATION CONTACT: Andrew Brooks, Regional Environmental Program Manager, Airports Division, Federal Aviation Administration, 1 Aviation Plaza, Room 516, Jamaica, NY 11434. Phone Number: 718-553-2511.

SUPPLEMENTARY INFORMATION:

Correction

In the Federal Register of January 17, 2023, in Vol. 88 No. 10, on page 2751, in the first and second columns, correct the Summary caption to read:

SUMMARY: The Federal Aviation Administration (FAA) announces its findings for the noise compatibility program submitted by TEB, see supplementary information for details. On June 15, 2017, the FAA determined that the noise exposure maps submitted by TEB were in compliance with applicable requirements. On July 15, 2022, the FAA determined that the noise compatibility program submitted by TEB would be initiating final review for approval or disapproval. On January 10, 2023, the FAA approved the TEB noise compatibility program. The noise compatibility program contained 33 recommended measures, including 16 noise abatement measures, four land use measures, and 13 program management measures. Of the measures proposed, 23 were approved, four were approved as voluntary, three were disapproved, and three were determined to have no FAA action as continuations of existing mandatory practices at TEB. Six of the 16 noise abatement procedures proposed at TEB are related to new or revised flight procedures.

Correction

In the Federal Register of January 17, 2023, in Vol. 88 No. 10, on page 2751, in the second column, correct the Dates caption to read:

DATES: The effective date of the FAA's approval of the TEB noise compatibility program is January 10, 2023.

Issued in Jamaica, NY, on January 27, 2023.
David A. Fish,
Director, Airports Division, Eastern Region.

[FR Doc. 2023-02068 Filed 1-31-23; 8:45 am]

BILLING CODE 4910-13-P